DEPARTMENT OF AGRICULTURE

Forest Service

Information Collection; Request for Comment; Homeowner Risk Reduction Behaviors Concerning Wildfire Risks

AGENCY: Forest Service, USDA.

ACTION: Notice.

SUMMARY: In accordance with the Paperwork Reduction Act of 1995, the Forest Service is seeking comments from all interested individuals and organizations on a new, one-time information collection, Homeowner Risk Reduction Behaviors Concerning Wildfire Risks. The information will be collected from homeowner groups, such as homeowners associations, that have been affected by wildfires.

DATES: Comments must be received in writing on or before August 4, 2006 to be assured of consideration. Comments received after that date will be considered to the extent practicable.

ADDRESSES: Comments concerning this notice should be addressed to Dr. Brian Kent, Project Leader, Rocky Mountain Research Station, Forest Service, USDA, 2150 Centre Avenue, Building A, Fort Collins, CO 80526.

Comments also may be submitted via facsimile to (970) 295-5959 or by e-mail to bkent@fs.fed.us.

The public may inspect comments received at the Rocky Mountain Research Station, Forest Service, USDA, 2150 Centre Avenue, Building A, Fort Collins, Colorado, during normal business hours. Visitors are encouraged to call ahead to (970) 295-5955 to facilitate entry to the building.

FOR FURTHER INFORMATION CONTACT: Dr. Brian Kent, Rocky Mountain Research Station, at (970) 295-5955. Individuals who use telecommunication devices for the deaf (TDD) may call the Federal Relay Service (FRS) at 1-800-877-8339 twenty-four hours a day, every day of the year, including holidays.

SUPPLEMENTARY INFORMATION: Title: Homeowner Risk Reduction Behaviors Concerning Wildfire Risks.

OMB Number: 0596-New.

Expiration Date of Approval: N/A.

Type of Request: New.

Abstract: The threat of wildfire to residents located in areas next to forested public lands has increased significantly during the last decade. As homeowners migrate to areas that are at increased risk from wildfire, they face important decisions regarding how much risk to accept from various sources. An important component of making decisions regarding risk is to understand the behaviors that are effective at reducing the risk and the information sources that are considered reliable for risk reduction information. To gain a better insight into homeowners' perceptions of wildfire risk, behaviors that reduce wildfire risk, and most effective methods of communicating the risk of wildfire, it is important to collect information directly from the homeowners that are at risk. The results of the collection will provide important information for public land managers and private homeowners that will improve the understanding of the issues and options between both groups.

Homeowners located in the wildland-urban interface in areas that were affected by wildfires, will be asked to return surveys. The homeowners are members of organized homeowners associations and their participation is voluntary. The survey will be presented to three focus groups, each comprised of seven Homeowner Association members; after which, the survey will be mailed to homeowners by Integrated Resource Solutions in Boulder, Colorado, operating under a Research Joint Venture with the Forest Service Rocky Mountain Research Station in Fort Collins, Colorado.

The type of information collection will include: (1) Risk perceptions regarding wildfire, (2) risk reduction behaviors associated with wildfire, (3) sources of information regarding wildfires and wildfire risk reduction, and (4) socio-economic information.

The data collected will be analyzed by Forest Service researchers at the Rocky Mountain Research Station and the following cooperators: Drs. Ingrid and Wade Martin of California State University of Long Beach, Long Beach, California, and Dr. Holly Bender of Integrated Resource Solutions, Boulder, Colorado. The results will be made available to Forest Service land managers, the respondents, and other interested parties.

This information will enhance the ability of Forest Service land managers on National Forests to understand public preferences regarding the management of wildfire risk. Without this type of information, Forest Service land managers and the public will continue to interact on the issues of wildfire risk without a broad-based understanding of the factors that lessen wildfire risk, factors that are important to homeowners.

Estimate of Annual Burden: 20 minutes for homeowners; 1 hour for each focus group member.

Type of Respondents: Homeowners located in the wildland-urban interface in the western United States.

Estimated Annual Number of Respondents: 1,500 homeowners; 21 Homeowner Association focus group participants.

Estimated Annual Number of Responses per Respondent: 1.

Estimated Total Annual Burden on Respondents: 500 hours—homeowners; 21 hours Homeowner Association focus group members.

Comment Is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: May 26, 2006.
Jimmy L. Reaves,
Associate Deputy Chief, Research and Development.

[FR Doc. E6-8641 Filed 6-2-06; 8:45 am]

BILLING CODE 3410-11-P